DEPARTMENT OF COMMERCE

Foreign-Trade Zones Board

[Docket 34-2004]

Proposed Foreign-Trade Zone—Conroe (Montgomery County), TX; Application and Public Hearing

An application has been submitted to the Foreign-Trade Zones (FTZ) Board (the Board) by the City of Conroe, Texas, to establish a general-purpose foreign-trade zone in Conroe (Montgomery County), Texas, adjacent to the Houston Customs port of entry. The FTZ application was submitted pursuant to the provisions of the FTZ Act, as amended (19 U.S.C. 81a-81u), and the regulations of the Board (15 CFR part 400). It was formally filed on August 11, 2004. The applicant is authorized to make the proposal under Texas Revised Civil Statutes Article 1446.01.

The proposed zone would be the fifth general-purpose zone in the Houston-Galveston Customs port of entry area. The existing zones are as follows: FTZ 84, Harris County (Grantee: Port of Houston Authority, Board Order 214, 07/15/83); FTZ 36, Galveston (Grantee: Board of Trustees of the Galveston Wharves, Board Order 129, 05/04/78); FTZ 171, Liberty County (Grantee: Liberty County Economic Development Corporation, Board Order 501, 01/04/91); and, FTZ 199, Texas City, (Grantee: Texas City Foreign Trade Zone Corporation, Board Order 681, 02/01/94).

The proposed zone consists of 438 acres located at Conroe Park North industrial park, located one mile east of I-45 on FM 3083. The park is owned by Conroe Industrial Development Corporation, an entity of the City of Conroe and a parcel is owned by Alchemia America, Corporation.

The application indicates that there is a need for zone services in the North Houston/Montgomery County area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on September 14, 2004, 1 p.m., North Harris Montgomery Community College District, Headquarters Building, Room 102, 5000 Research Forest Drive, The Woodlands, Texas.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099-14th Street, NW., Washington, DC 20005; or

2. Submissions via the U.S. Postal Service: Foreign-Trade Zones Board, U.S. Department of Commerce, FCB—Suite 4100W, 1401 Constitution Avenue, NW., Washington, DC 20230.

The closing period for their receipt is October 18, 2004. Rebuttal comments in response to material submitted during the foregoing period may be submitted during the subsequent 15-day period (to November 1, 2004).

A copy of the application and accompanying exhibits will be available for public inspection at the Office of Foreign-Trade Zones Board's Executive Secretary at the first address listed above, and at the Greater Conroe Economic Development Council, 505 W. Davis St., Conroe, Texas 77305.

Dated: August 11, 2004.
Dennis Puccinelli,
Executive Secretary.

[FR Doc. 04-18809 Filed 8-16-04; 8:45 am]

BILLING CODE 3510-DS-P